DEPARTMENT OF HOMELAND SECURITY

Coast Guard

33 CFR Part 100

[Docket No. USCG-2016-0356]

Special Local Regulation; Annual Dragon Boat Races, Portland, Oregon

AGENCY: Coast Guard, DHS.

ACTION: Notice of enforcement of regulation.

SUMMARY: The Coast Guard will enforce the special local regulation requirements for the Portland Annual Dragon Boat Races from 7 a.m. until 6 p.m. on June 11, 2016 and 7 a.m. until 6 p.m. on June 12, 2016. This action is necessary to ensure the safety of maritime traffic, including the public vessels present, on the Willamette River during the Portland Annual Dragon Boat Races. During the enforcement period, no person or vessel may transit this regulated area without permission from the Sector Columbia River Captain of the Port or a designated representative.

DATES: The regulations in 33 CFR 100.1302 will be enforced from 7 a.m. until 6 p.m., on June 11, 2016 and June 12, 2016.

FOR FURTHER INFORMATION CONTACT: If you have questions about this notice of enforcement, call or email Ken Lawrenson, Waterways Management Division, Marine Safety Unit Portland, U.S. Coast Guard; telephone 503-240-9319, email msupdxwwm@uscg.mil.

SUPPLEMENTARY INFORMATION: The Coast Guard will enforce special local regulations in 33 CFR 100.1302 from 7 a.m. until 6 p.m. on June 11, 2016 and 7 a.m. until 6 p.m. on June 12, 2016, for the Portland Annual Dragon Boat races in the Willamette River. This action is being taken to provide for the safety of life on navigable waterways during the regatta. Our regulation for the Annual Dragon Boat Races, Portland, Oregon, § 100.1302, specifies the location of the regulated area for this regatta course as all waters of the Willamette River shore to shore, bordered on the north by the Hawthorne Bridge, and on the south by the Marquam Bridge. As specified in § 100.1302, during the enforcement period, no vessel may transit this regulated area without approval from the Captain of the Port Sector Columbia River (COTP) or a COTP designated representative.

This notice of enforcement is issued under authority of 33 CFR 100.1302 and 5 U.S.C. 552 (a). In addition to this notice of enforcement in the Federal Register, the Coast Guard plans to provide notification of this enforcement period via the Local Notice to Mariners and marine information broadcasts.

Dated: May 20, 2016.
D.J. Travers,
Captain, U.S. Coast Guard, Captain of the Port, Sector Columbia River.

[FR Doc. 2016-12686 Filed 5-27-16; 8:45 am]

BILLING CODE 9110-04-P